DEPARTMENT OF TRANSPORTATION

Federal Aviation Administration

Notice of Intent to Rule on Request To Release Deed Restrictions at the Yellowstone Airport, West Yellowstone, Montana

AGENCY: Federal Aviation Administration (FAA), DOT.

ACTION: Notice To Rescind a Notice of Intent to Rule on Request to Release Deed Restrictions at the Yellowstone Airport, West Yellowstone, Montana.

SUMMARY: The Federal Aviation Administration is issuing this notice to advise the public that, effective immediately, it is rescinding the Notice of Intent to rule on the request to release deed restrictions at Yellowstone Airport under the provisions of Title 49, U.S.C. Section 47125 that was published on January 28, 2014. A re-opening and extension of the comment period was published on March 14, 2014. This rescission is due to the comments received regarding this notice. The request to release the deed restrictions may be reconsidered after further analysis and a Notice of Intent would be published at a later date.

FOR FURTHER INFORMATION CONTACT: Mr. David S. Stelling, Manager, Federal Aviation Administration, Northwest Mountain Region, Airports Division, Helena Airports District Office, 2725 Skyway Drive, Suite 2, Helena, Montana 59602.

Issued in Helena, Montana, on June 24, 2014.
David S. Stelling,
Manager, Helena Airports District Office.

[FR Doc. 2014-15314 Filed 6-27-14; 8:45 am]

BILLING CODE 4910-13-P